DEPARTMENT OF STATE

[Public Notice: 10368]

Notice of Public Meeting

SUMMARY: The Advisory Panel to the U.S. Section of the North Pacific Anadromous Fish Commission will meet on April 27th, 2018.

DATES: The meeting will take place via teleconference on April 27th, 2018 from 2 p.m. to 3 p.m. Eastern time.

SUMMARY: The teleconference call-in number is toll-free 877-336-1831, passcode 6472335, and will have a limited number of lines for members of the public to access from anywhere in the United States. Callers will hear instructions for using the passcode and joining the call after dialing the toll-free number noted. Members of the public wishing to participate in the teleconference must contact the OES officer in charge as noted in the FOR FURTHER INFORMATION CONTACT section below no later than close of business on Wednesday, April 25th, 2018.

FOR FURTHER INFORMATION CONTACT: Elana Mendelson, Office of Marine Conservation. Telephone (202) 647-1073, email address MendelsonEK@state.gov.

SUPPLEMENTARY INFORMATION: In accordance with the requirements of the Federal Advisory Committee Act, notice is given that the Advisory Panel to the U.S. Section of the North Pacific Anadromous Fish Commission (NPAFC) will meet on the date and time noted above. The panel consists of members from the states of Alaska and Washington who represent the broad range of fishing and conservation interests in anadromous and ecologically related species in the North Pacific. Certain members also represent relevant state and regional authorities. The panel was established in 1992 to advise the U.S. Section of the NPAFC on research needs and priorities for anadromous species, such as salmon, and ecologically related species occurring in the high seas of the North Pacific Ocean. The upcoming Panel meeting will focus on a review of the agenda for the 2018 annual meeting of the NPAFC (May 21-25, 2018; Khabarovsk, Russia). Background material is available from the point of contact noted above and by visiting www.npafc.org.

Deirdre Warner-Kramer,
Acting Director, Office of Marine Conservation, Department of State.

[FR Doc. 2018-06210 Filed 3-27-18; 8:45 am]

BILLING CODE 4710-05-P